DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 31, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on July 2, 2019.
Donald P. Burger,
Chief, General Approvals and Permits Branch.

SPECIAL PERMITS DATA
Application number | Applicant | Regulation(s) affected | Nature of the special permits thereof
4661-M | ALBEMARLE U.S. INC | 180.205(b), 180.205(c), 180.205(f), 180.205(g), 180.213 | To modify the special permit to authorize additional Class 3 hazmat. (modes 1, 2, 3)
8451-M | AUTOLIV ASP, INC | 172.320, 173.54(a), 173.54(j), 173.56(b), 173.57, 173.58, 173.60 | To modify the special permit to increase the weight of the explosives. (modes 1, 2, 4)
9998-M | ACCUMULATORS, INC | 173.302(a) | To modify the permit to add a new line of piston-type hydro-pneumatic accumulators (to the currently permitted bladder-type accumulators). (modes 1, 2, 3, 4)
10915-M | LUXFER INC | 172.203(a), 172.301(c), 173.302a(a)(1), 173.304a(a)(1), 180.205 | To modify the special permit to authorize a change to the marking requirements of CFFC-14(b)(ii). (modes 1, 2, 3, 4, 5)
14298-M | VERSUM MATERIALS, LLC | 180.209(a), 180.209(b), 180.209(b)(1)(iv) | To modify the special permit to authorize the addition of tungsten hexafluoride as an authorized hazardous material. (modes 1, 2, 3)
15130-M | SUNDANCE HELICOPTERS, INC | 72.101(j)(1), 175.30(a) | To modify the special permit to authorize additional Class 2 hazardous materials. (mode 4)
16518-M | MIDWEST HELICOPTER AIRWAYS | 172.200, 172.301(c), 175.33 | To modify the special permit to add additional hazmat. (mode 4)
16624-M | FRAMATOME INC | 173.301(a)(1), 173.302(a) | To modify the special permit to authorize non-DOT specification packaging for the safe containment of the compressed helium in certain of its non‐Class 7 nuclear fuel component products. (mode 1)
20323-M | Cuberg, Inc | 173.185(a)(1)(i) | To modify the special permit to authorize an additional outer packaging. (mode 4)
20499-M | INMAR, INC | Subchapter C | To modify the special permit to change it from an MMS to an offer type permit. (modes 1, 2)
20567-M | OMNI TANKER PTY. LTD | 107.503(b), 107.503(c), 172.102(c)(3), 172.203(a), 173.241, 173.242, 173.243, 178.345-1, 178.347-1, 178.348-1, 180.405, 180.413(d) | To modify the special permit to authorize additional cargo tank designs. (mode 1)
20621-M | SIGMA-ALDRICH INTERNATIONAL GM | 173.56(b), 173.224(c), 173.225(b) | To modify the special permit to authorize the use of a higher density expandable foam and to authorize a smaller package. (modes 1, 2, 3, 4, 5)
20796-M | SODASTREAM USA INC | 172.400, 172.200, 172.300 | To modify the special permit to include IMDG and ICAO references. (modes 1, 2, 3)
20883-M | DEPARTMENT OF THE ARMY (MILITARY SURFACE DEPLOYMENT & DISTRIBUTION COMMAND) | 173.302(a), 175.3 | To modify the permit to authorize party status. (modes 1, 3, 4)

[FR Doc. 2019-15036 Filed 7-15-19; 8:45 am]

BILLING CODE 4909-60-P